DEPARTMENT OF TRANSPORTATION

Office of the Secretary

Notice of Order Soliciting Community Proposals

AGENCY: Department of Transportation.

ACTION: Notice of Order Soliciting Community Proposals (Order 2004-3-10) Docket OST-2004-17343

SUMMARY: The Department of Transportation is soliciting proposals from communities or consortia of communities interested in receiving a grant under the Small Community Air Service Development Program. The full text of the Department's order is attached to this document.

DATES: Grant Proposals should be submitted no later than May 14, 2004.

ADDRESSES: Interested parties should submit an original and three copies of their proposals bearing the title “Proposal under the Small Community Air Service Development Program, Docket OST-2004-17343, as well as the name of the applicant community or consortium of communities, and the legal sponsor, to Dockets Operations and Media Management, M-30, Room PL-401, Department of Transportation, 400 7th Street, SW., Washington, DC 20590.

FOR FURTHER INFORMATION CONTACT: Teresa Bingham, Associate Director, Office of Aviation Analysis for the Small Community Air Service Development Program, 400 7th Street, SW., Washington, DC 20590, (202) 366-1032.

Dated: March 15, 2004.
Michael W. Reynolds,
Deputy Assistant Secretary for Aviation and International Affairs.

BILLING CODE 4910-62-P

[FR Doc. 04-6235 Filed 3-18-04; 8:45 am]

BILLING CODE 4910-62-C